INTERNATIONAL TRADE COMMISSION

[Investigation No. 337-TA-805]

Certain Devices for Improving Uniformity Used in a Backlight Module and Components Thereof and Products Containing Same; Determination To Review and Modify Initial Determination To Amend Complaint

AGENCY: U.S. International Trade Commission.

ACTION: Notice.

SUMMARY: Notice is hereby given that the U.S. International Trade Commission has determined to review the presiding administrative law judge's (“ALJ”) initial determination (“ID”) (Order No. 11) granting a motion by complainants Industrial Technology Research Institute of Hsinchu, Taiwan and ITRI International Inc. of San Jose, California (collectively “ITRI”) to amend the complaint to add as respondents LG Display Co., Ltd. of Seoul, South Korea and LG Display America, Inc. of San Jose, California (collectively “LG Display”). On review, the Commission modifies the ID's grant of ITRI's motion to clarify that both the complaint and the notice of investigation are amended.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 14, 2011, based on a complaint filed by ITRI. 76 FR 56796-97 (Sept. 14, 2011). The complaint alleges violations of Section 337 of the Tariff Act of 1930, as amended, 19 U.S.C. 1337, in the importation into the United States, the sale for importation, and the sale within the United States after importation of certain devices for improving uniformity used in a backlight module and components thereof and products containing same by reason of infringement of certain claims of U.S. Patent No. 6,883,932. The complaint further alleges the existence of a domestic industry. The Commission's notice of investigation named as respondents LG Corporation of Seoul, South Korea; LG Electronics, Inc. of Seoul, South Korea; and LG Electronics, U.S.A., Inc. of Englewood Cliffs, New Jersey (collectively “the LGE Respondents”). The Office of Unfair Import Investigation was named as a participating party.

On December 21, 2011, ITRI filed a motion for leave to amend the complaint to add LG Display as respondents in this investigation. On January 3, 2012, the LGE Respondents filed an opposition to the motion. Also on January 3, 2012, the Commission investigative attorney filed a response supporting the motion and characterizing it as a motion to amend the complaint and the notice of investigation.

On January 19, 2012, the ALJ issued the subject ID, granting complainants' motion to amend the complaint pursuant to Commission Rule 210.14(b)(1) (19 CFR 210.14(b)(1)). No petitions for review of this ID were filed.

The Commission has determined to review the ID, and on review, to modify the ID's grant of ITRI's motion to clarify that, while the ID grants only ITRI's motion to amend the complaint, because the LG Display respondents are added to the investigation, the notice of investigation must also be amended in addition to the complaint.

The authority for the Commission's determination is contained in section 337 of the Tariff Act of 1930, as amended (19 U.S.C. 1337), and in section 210.44 of the Commission's Rules of Practice and Procedure (19 CFR 210.44).

Issued: February 2, 2012.
By order of the Commission.
James R. Holbein,
Secretary to the Commission.

[FR Doc. 2012-2824 Filed 2-7-12; 8:45 am]

BILLING CODE 7020-02-P